ENVIRONMENTAL PROTECTION AGENCY

[FRL-7989-8]

OMB Responses Correction

AGENCY: Environmental Protection Agency (EPA).

ACTION: Notice; correction.

SUMMARY: Environmental Protection Agency published a document in the Federal Register of September 21, 2005, concerning OMB's responses. The document contained incorrect information.

FOR FURTHER INFORMATION CONTACT: Susan Auby, (202) 566-1672.

Correction

In the Federal Register of September 21, 2005, in FR Doc. 05-18836, on page 55377, in the first column, correct the agency to read Environmental Protection Agency, and in the second column, remove the OMB number 2060-0417 from the EPA ICR No. 2196.01 and add the OMB number to the entry for EPA ICR No. 1788.07 to read:

EPA ICR No. 1788.07; NESHAP for Oil and Gas Production Facilities (proposed rule); OMB Number 2060-0417; on 09/09/2005 OMB filed a comment.

Dated: October 19, 2005.
Sara Hisel-McCoy,
Acting Director, Collection Strategies Division.

[FR Doc. 05-21458 Filed 10-26-05; 8:45 am]

BILLING CODE 6560-50-P